DEPARTMENT OF TRANSPORTATION

Federal Aviation Administration

RTCA Special Committee 135: Environmental Conditions and Test Procedures for Airborne Equipment

AGENCY: Federal Aviation Administration (FAA), DOT.

ACTION: Notice of RTCA Special Committee 135 meeting.

SUMMARY: The FAA is issuing this notice to advise the public of a meeting of RTCA Special Committee 135: Environmental Conditions and Test Procedures for Airborne Equipment.

DATES: The meeting will be held February 12-14, 2002 starting at 9 a.m.

ADDRESSES: The meeting will be held at Honeywell, Inc., Business, Regional & General Aviation Systems, Mohave Conference Room, 5353 West Bell Road, Glendale, Arizona, 85308.

FOR FURTHER INFORMATION CONTACT: (1) RTCA Secretariat, 1828 L Street, NW., Suite 805, Washington, DC 20036; telephone (202) 833-9339; fax (202) 833-9434; Web site http://www.rtca.org; (2) Honeywell Contact: Mike Kroeger; telephone (602) 436-4554; e-mail mike.kroeger@honeywell.com.

SUPPLEMENTARY INFORMATION: Pursuant to section 10(a)(2) of the Federal Advisory Commission Act (Pub. L. 92-463, 5 U.S.C., Appendix 2), notice is hereby given for a Special Committee 135 meeting. The agenda will include:

• February 12-14:

• Opening Plenary Session (Welcome and Introductory Remarks, Recognize Federal Representative, Approve Minutes of Previous Meeting).

• Discuss/Review Revision Cycle for Document.

• Status Reports on Revisions to Sections 22 and 19.

• Status Report for Sections 6, 9, 10, 11, 12, 13, and 14.

• Electronic Form for Submitting Comments and Revised Sections.

• Determine Content and Schedule for DO-160E.

• Closing Plenary Session (New/Unfinished Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on January 15, 2002.
Janice L. Peters,
FAA Special Assistant, RTCA Advisory Committee.

[FR Doc. 02-1670 Filed 1-22-02; 8:45 am]

BILLING CODE 4910-13-M